DEPARTMENT OF ENERGY

Federal Energy Regulatory Commission

[Project No. 14985-001]

Cherokee Rivers Company, LLC; Notice of Intent To File License Application, Filing of Pre-Application Document, and Approving Use of The Traditional Licensing Process

a. Type of Filing: Notice of Intent to File License Application and Request to Use the Traditional Licensing Process.

b. Project No.: 14985-001.

c. Date Filed: August 22, 2019.

d. Submitted By: Cherokee Rivers Company, LLC (Cherokee Rivers).

e. Name of Project: Lower Coosawattee Hydroelectric Project.

f. Location: Located at the U.S. Army Corps of Engineers' (Corps) existing Carters Reregulation Dam, located on the Coosawattee River in Murray County, Georgia. The project would occupy 1.35 acres of federal land administered by the Corps.

g. Filed Pursuant to: 18 CFR 5.3 of the Commission's regulations.

h. Potential Applicant Contact: Robert Davis, 390 Timber Laurel Lane, Lawrenceville, GA 30043; phone: (470) 331-8238.

i. FERC Contact: Dustin Wilson at (202) 502-6528; or email at dustin.wilson@ferc.gov.

j. Cherokee Rivers filed its request to use the Traditional Licensing Process on August 22, 2019. Cherokee Rivers provided public notice of its request on August 14, 2019. In a letter dated October 18, 2019, the Director of the Division of Hydropower Licensing approved Cherokee Rivers' request to use the Traditional Licensing Process.

k. With this notice, we are initiating informal consultation with the U.S. Fish and Wildlife Service and/or the National Marine Fisheries Service under section 7 of the Endangered Species Act and the joint agency regulations thereunder at 50 CFR, Part 402. We are also initiating consultation with the Georgia State Historic Preservation Officer, as required by section 106, National Historic Preservation Act, and the implementing regulations of the Advisory Council on Historic Preservation at 36 CFR 800.2.

l. With this notice, we are designating Cherokee Rivers as the Commission's non-federal representative for carrying out informal consultation pursuant to section 7 of the Endangered Species Act; and consultation pursuant to section 106 of the National Historic Preservation Act.

m. Cherokee Rivers filed a Pre-Application Document (PAD); including a proposed process plan and schedule with the Commission, pursuant to 18 CFR 5.6 of the Commission's regulations.

n. A copy of the PAD is available for review at the Commission in the Public Reference Room, or may be viewed on the Commission's website (http://www.ferc.gov) using the eLibrary link. Enter the docket number, excluding the last three digits in the docket number field to access the document. For assistance, contact FERC Online Support at FERCOnlineSupport@ferc.gov, (866) 208-3676 (toll free), or (202) 502-8659 (TTY). A copy is also available for inspection and reproduction at the address in paragraph h.

o. The licensee states its unequivocal intent to submit an application for an original license for Project No. 14985.

p. Register online at http://www.ferc.gov/docs-filing/esubscription.asp to be notified via email of new filings and issuances related to this or other pending projects. For assistance, contact FERC Online Support.

Dated: October 18, 2019.
Kimberly D. Bose,
Secretary.

[FR Doc. 2019-23491 Filed 10-25-19; 8:45 am]

BILLING CODE 6717-01-P